FEDERAL COMMUNICATIONS COMMISSION

47 CFR Part 73

[MB Docket No. 87-268; DA 07-38]

Advanced Television Systems and Their Impact Upon the Existing Television Broadcast Service; Seventh Further Notice of Proposed Rulemaking

AGENCY: Federal Communications Commission.

ACTION: Proposed rule; extension of comment period.

SUMMARY: The Media Bureau extends the comment and reply comment deadlines in the Seventh Further Notice of Proposed Rule Making (“Further NPRM”). In order to allow parties ample time to develop and provide technical analyses during the comment and reply period, the deadline for filing comments in response to the Further NPRM is extended to January 25, 2007 and the deadline for filing reply comments is extended to February 26, 2007.

DATES: Comments are due January 25, 2007, and reply comments are due February 26, 2007.

ADDRESSES: You may submit comments, identified by MB Docket No. 87-268, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Evan Baranoff, Evan.Baranoff@fcc.gov, or Eloise Gore, Eloise.Gore@fcc.gov, of the Media Bureau, Policy Division, (202) 418-2120; Nazifa Sawez, Nazifa.Sawez@fcc.gov, of the Media Bureau, Video Division, (202) 418-1600; or Alan Stillwell, Alan.Stillwell@fcc.gov, of the Office of Engineering and Technology, (202) 418-2470.

SUPPLEMENTARY INFORMATION: On October 20, 2006, the Commission adopted a Seventh Further Notice of Proposed Rulemaking, FCC 06-150, released October 20, 2006 in MB Docket No. 87-268 (71 FR 66592, November 15, 2006) proposing a new Digital Television Table of Allotments providing all eligible stations with channels for digital television (“DTV”) operations after the DTV transition. Comments on the Further NPRM were initially due on January 11, 2007, and reply comments were initially due on February 12, 2007.

On December 29, 2006, the Association of Federal Communications Consulting Engineers (AFCCE) filed a request for a 30 day extension of time to file comments in this proceeding. AFCCE argues that additional time is needed to complete the engineering analysis necessary to prepare comments.

As set forth in Section 1.46 of the Commission's rules, it is our policy that extensions of time for filing comments in rulemaking proceedings shall not be routinely granted. 47 CFR 1.46. Moreover, the initial comment period in the proceeding was longer than usual. However, in view of the circumstances outlined by AFCCE, we believe a 14 day extension for the comment and reply period is warranted to facilitate the development of a complete record. This extension allows parties ample time to develop and provide technical analyses during the comment and reply period, which we hope will reduce the time needed later in this rulemaking process for further adjustments and filings. It is essential, however, that the industry and Commission remain on track to complete this transition by the statutory deadline for the final transition for full power stations from analog to digital television on February 17, 2009. Deficit Reduction Act of 2005, Pub. L. No. 109-171, 120 Stat. 4 (2006) (amending Section 309(j)(14) and Section 337(e) of the Communications Act, as amended). Accordingly, we decline to grant the full 30 day extension AFCCE requested.

Accordingly, it is ordered that the Request for Extension of Time filed in MB Docket No. 87-268 by the AFCCE is granted to the extent detailed above.

It is further ordered that the time for filing comments in the above captioned proceeding is extended to January 25, 2007 and the time for filing reply comments is extended to February 26, 2007.

This action is taken pursuant to authority found in Sections 4(i), 4(j), and 303(r) of the Communications Act of 1934, as amended, 47 U.S.C. 154(i), 154(j), and 303(r) and Sections 0.61, 0.283, and 1.46 of the Commission's rules, 47 CFR 0.61, 0.283, and 1.46.

Specific instructions for filing comments are located at paragraphs 71-76 of the item as published in the Federal Register and at paragraphs 58-63 of the item as released by the Commission and that appears on the Commission Web site: http://hraunfoss.fcc.gov/edocs_public/attachmatch/FCC-06-150A1.doc.

Federal Communications Commission.
Steven A. Broeckaert,
Deputy Chief, Policy Division, Media Bureau.

[FR Doc. E7-1348 Filed 1-25-07; 8:45 am]

BILLING CODE 6712-01-P